DEPARTMENT OF TRANSPORTATION

Federal Aviation Administration

14 CFR Part 39

[Docket No. FAA-2005-22156; Directorate Identifier 2005-CE-43-AD; Amendment 39-14435; AD 2005-26-14]

RIN 2120-AA64

Airworthiness Directives; BURKHARDT GROB LUFT-UND RAUMFA HRT GmbH & CO KG Model G103 TWIN ASTIR Sailplanes

AGENCY: Federal Aviation Administration (FAA), DOT.

ACTION: Final rule.

SUMMARY: The FAA adopts a new airworthiness directive (AD) for all BURKHARDT GROB LUFT-UND RAUMFAHRT GmbH & CO KG (Burkhardt Grob) Model G103 TWIN ASTIR sailplanes. This AD requires you to replace the elevator lever, part number (P/N) 103-3521, with an improved design part, P/N 103-3523. This AD results from mandatory continuing airworthiness information (MCAI) issued by the airworthiness authority for Germany. We are issuing this AD to prevent cracks in the elevator lever, which could cause the elevator lever to fail. This failure could result in loss of control of the sailplane.

DATES: This AD becomes effective on February 6, 2006.

As of February 6, 2006, the Director of the Federal Register approved the incorporation by reference of certain publications listed in the regulation.

ADDRESSES: To get the service information identified in this AD, contact BURKHARDT GROB LUFT-UND RAUMFAHRT GmbH & CO KG, Letenbachstrasse 9, D-86874 Tussenhausen-Mattsies, Germany; telephone: 011 49 8268 998139; facsimile: 011 49 8268 998200.

To view the AD docket, go to the Docket Management Facility, U.S. Department of Transportation, 400 Seventh Street, SW., Nassif Building, Room PL-401, Washington, DC 20590-001 or on the Internet at http://dms.dot.gov. The docket number is FAA-2005-22156; Directorate Identifier 2005-CE-43-AD.

FOR FURTHER INFORMATION CONTACT: Greg Davison, Aerospace Engineer, FAA, Small Airplane Directorate, 901 Locust, Room 301, Kansas City, Missouri 64106; telephone: (816) 329-4130; facsimile: (816) 329-4090.

SUPPLEMENTARY INFORMATION:

Discussion

What events have caused this AD? The Luftfahrt-Bundesamt (LBA), which is the airworthiness authority for Germany, recently notified the FAA that an unsafe condition may exist on all Burkhardt Grob Model G103 TWIN ASTIR sailplanes. The LBA reports an instance of elevator lever failure on one of the affected sailplanes. Cracks in the elevator lever caused the elevator lever to fail.

The cracks are a result of inadequate design in the structural strength and durability.

The elevator lever, part number (P/N) 103-3521, is made from the same cast alloy as the airbrake over-center levers, P/Ns 103-4123 (left) and 103-4124 (right), used on Burkhardt Grob Model G103 TWIN ASTIR sailplanes. Cracks found on these parts caused us to issue AD 97-24-10, Amendment 39-10217 (62 FR 62948, November 26, 1997), which requires replacing P/Ns 103-4123 and 103-4124 with improved design parts, P/N 103B-4123 and 103B-4124.

What is the potential impact if FAA took no action? If not prevented, cracks in the elevator lever could cause the elevator lever to fail. This failure could result in loss of control of the sailplane.

Has FAA taken any action to this point? We issued a proposal to amend part 39 of the Federal Aviation Regulations (14 CFR part 39) to include an AD that would apply all Burkhardt Grob Model G103 TWIN ASTIR sailplanes. This proposal was published in the Federal Register as a notice of proposed rulemaking (NPRM) on September 14, 2005 (70 FR 54311). The NPRM proposed to require you to replace the aluminum cast alloy elevator lever, P/N 103-3521, with a sheet aluminum elevator lever, P/N 103-3523.

Comments

Was the public invited to comment? We provided the public the opportunity to participate in developing this AD. The following presents the comment received on the proposal and FAA's response to the comment:

Comment Issue No. 1: Address the Use of Parts Manufacturer Approval (PMA) Parts

What is the commenter's concern? The commenter states that the PMA part may often share the identical design data with the original part while carrying a completely different part number; therefore, it is possible the AD will not address certain defective PMA parts installed on the aircraft, allowing the unsafe condition to continue.

The commenter also states that it is possible that a “new and improved” PMA version of the defective original part may already exist in the marketplace. Therefore, specifying one approved part in preference to a different, but also approved part, will impart a commercial advantage to one manufacturer over the other.

The commenter requests that the final rule AD action be changed to address the replacement of identical, defective PMA parts and allow replacement with an identical, improved PMA part.

What is FAA's response to the concern? We agree with the commenter.

We will change the final rule AD action to include the phrase to cover the PMA replacement parts and add information to clarify the phrase “or FAA-approved equivalent part number.”

Conclusion

What is FAA's final determination on this issue? We have carefully reviewed the available data and determined that air safety and the public interest require adopting the AD as proposed except for minor editorial corrections. We have determined that these minor corrections:

—Are consistent with the intent that was proposed in the NPRM for correcting the unsafe condition; and

—Do not add any additional burden upon the public than was already proposed in the NPRM.

Changes to 14 CFR Part 39—Effect on the AD

How does the revision to 14 CFR part 39 affect this AD? On July 10, 2002, the FAA published a new version of 14 CFR part 39 (67 FR 47997, July 22, 2002), which governs the FAA's AD system. This regulation now includes material that relates to altered products, special flight permits, and alternative methods of compliance. This material previously was included in each individual AD. Since this material is included in 14 CFR part 39, we will not include it in future AD actions.

Costs of Compliance

How many sailplanes does this AD impact? We estimate that this AD affects 60 sailplanes in the U.S. registry.

What is the cost impact of this AD on owners/operators of the affected sailplanes? We estimate the following costs to do the replacement:

Labor cost | Parts cost | Total cost per sailplane | Total cost on U.S. operators
20 work hours × $65 per hour = $1,300 | $715 | $2,015 | 60 × $2,015 = $120,900.

Authority for This Rulemaking

What authority does FAA have for issuing this rulemaking action? Title 49 of the United States Code specifies the FAA's authority to issue rules on aviation safety. Subtitle I, section 106 describes the authority of the FAA Administrator. Subtitle VII, Aviation Programs, describes in more detail the scope of the agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

Will this AD impact various entities? We have determined that this AD will not have federalism implications under Executive Order 13132. This AD will not have a substantial direct effect on the States, on the relationship between the national government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2005-22156; Directorate Identifier 2005-CE-43-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2005-26-14 BURKHARDT GROB LUFT-UND RAUMFAHRT GmbH & CO KG: Amendment 39-14435; Docket No. FAA-2005-22156; Directorate Identifier 2005-CE-43-AD.

When Does This AD Become Effective?

(a) This AD becomes effective on February 6, 2006.

What Other ADs Are Affected By This Action?

(b) None.

What Sailplanes Are Affected by This AD?

(c) This AD affects Model G103 TWIN ASTIR sailplanes, all serial numbers, that are certificated in any category.

What Is the Unsafe Condition Presented in This AD?

(d) This AD is the result of mandatory continuing airworthiness information (MCAI) issued by the airworthiness authority for Germany. The actions specified in this AD are intended to prevent cracks in the elevator lever, which could cause the elevator lever to fail. This failure could result in loss of control of the sailplane.

What Must I Do To Address This Problem?

(e) To address this problem, you must do the following:

Actions | Compliance | Procedures
(1) Check the sailplane service history records to determine if part number (P/N) 103-3521 (or FAA-approved equivalent P/N), aluminum cast alloy elevator lever, has been replaced with P/N 103-3523 (or FAA-approved equivalent P/N), sheet aluminum elevator lever | Within the next 25 hours time-in-service (TIS) after February 6, 2006 (the effective date of this AD) | The owner/operator holding at least a private pilot certificate as authorized by section 43.7 of the Federal Aviation Regulations (14 CFR 43.7) may check the sailplane service of history records as specified in paragraph (e)(1) of this AD. Make an entry into the aircraft records showing compliance with this portion of the AD following section 43.9 of the Federal Aviation Regulations (14 CFR 43.9).
(2) If you can positively determine by checking the sailplane service history records that the replacement specified in paragraph (e)(1) of this AD has been done, no further action is required | Not applicable | Not applicable.
(3) If you cannot positively determine by checking the sailplane service history records that the replacement specified in paragraph (e)(1) of this AD has been done, replace P/N 103-3521 (or FAA-approved equivalent P/N) with P/N 103-3523 (or FAA-approved equivalent P/N) | Within the next 25 hours TIS after February 6, 2006 (the effective date of this AD) | Following GROB Luft-und Raumfahrt Service Bulletin MSB 315-67/1 dated December 20, 2004.
(4) 14 CFR 21.303 allows for replacement parts through parts manufacturer approval (PMA). The phrase “or FAA-approved equivalent part number” in this AD is intended to signify those parts that are PMA approved through identicality to the design of the part under the type certificate and replacement parts to correct the unsafe condition under PMA (other than identicality). If parts are installed that are identical to the unsafe parts, then the corrective actions of the AD affect these parts also. In addition, equivalent replacement parts to correct the unsafe condition under PMA (other than identicality) may also be installed provided they meet current airworthiness standards, which include those actions cited in this AD | Not applicable | Not applicable.
(5) Do not install any P/N 103-3521 (or FAA-approved P/N equivalent to 103-3521), aluminum cast alloy elevator lever | As of February 6, 2006 (the effective date of this AD) | Not applicable.

May I Request an Alternative Method of Compliance?

(f) The Manager, Standards Office, Small Airplane Directorate, FAA, has the authority to approve alternative methods of compliance (AMOCs) for this AD, if requested using the procedures found in 14 CFR 39.19. For information on any already approved alternative methods of compliance, contact Greg Davison, Aerospace Engineer, FAA, Small Airplane Directorate, 901 Locust, Room 301, Kansas City, Missouri 64106; telephone: (816) 329-4130; facsimile: (816) 329-4090.

Is There Other Information That Relates to This Subject?

(g) German AD Number D-2004-292R1, dated February 28, 2005, also addresses the subject of this AD.

Does This AD Incorporate Any Material by Reference?

(h) You must do the actions required by this AD following the instructions in GROB Luft-und Raumfahrt Service Bulletin MSB 315-67/1 dated December 20, 2004. The Director of the Federal Register approved the incorporation by reference of this service bulletin in accordance with 5 U.S.C. 552(a) and 1 CFR part 51. To get a copy of this service information, contact BURKHARDT GROB LUFT-UND RAUMFAHRT GmbH & CO KG, Letenbachstrasse 9, D-86874 Tussenhausen-Mattsies, Germany; telephone: 011 49 8268 998139; facsimile: 011 49 8268 998200. To review copies of this service information, go to the National Archives and Records Administration (NARA). For information on the availability of this material at NARA, go to: http://www.archives.gov/federal_register/code_of_federal_regulations/ibr_locations.html or call (202) 741-6030. To view the AD docket, go to the Docket Management Facility, U.S. Department of Transportation, 400 Seventh Street, SW., Nassif Building, Room PL-401, Washington, DC 20590-001, or on the Internet at http://dms.dot.gov. The docket number is FAA-2005-22156; Directorate Identifier 2005-CE-43-AD.

Issued in Kansas City, Missouri, on December 16, 2005.
David R. Showers,
Acting Manager, Small Airplane Directorate, Aircraft Certification Service.

[FR Doc. 05-24478 Filed 12-27-05; 8:45 am]

BILLING CODE 4910-13-P